DEPARTMENT OF EDUCATION

Office of Special Education and Rehabilitative Services; List of Correspondence

AGENCY: Department of Education.

ACTION: List of Correspondence from October 1, 2005 through December 31, 2005.

SUMMARY: The Secretary is publishing the following list pursuant to section 607(f) of the Individuals with Disabilities Education Act, as amended by the Individuals with Disabilities Education Improvement Act of 2004 (IDEA). Under section 607(d) of IDEA, the Secretary is required, on a quarterly basis, to publish in the Federal Register a list of correspondence from the U.S. Department of Education (Department) received by individuals during the previous quarter that describes the interpretations of the Department of IDEA or the regulations that implement IDEA.

FOR FURTHER INFORMATION CONTACT: Melisande Lee or JoLeta Reynolds. Telephone: (202) 245-7468.

If you use a telecommunications device for the deaf (TDD), you may call the Federal Relay Service (FRS) at 1-800-877-8339.

Individuals with disabilities may obtain a copy of this notice in an alternative format (e.g., Braille, large print, audiotape, or computer diskette) on request to the contact persons listed under FOR FURTHER INFORMATION CONTACT.

SUPPLEMENTARY INFORMATION: The following list identifies correspondence from the Department issued from October 1, 2005 through December 31, 2005. Included on the list are those letters that contain interpretations of the requirements of IDEA and its implementing regulations, as well as letters and other documents that the Department believes will assist the public in understanding the requirements of the law and its regulations. The date of and topic addressed by a letter are identified, and summary information is also provided, as appropriate. To protect the privacy interests of the individual or individuals involved, personally identifiable information has been deleted, as appropriate.

Part B—Assistance for Education of All Children With Disabilities

Section 612—State Eligibility

Topic Addressed: Individualized Education Programs

• Letter dated October 25, 2005 to Mississippi State Department of Education Bureau Director Melody Bounds, regarding challenges faced by Mississippi in providing special education and related services to students with disabilities displaced by Hurricane Katrina, application of the requirements in Part B of the IDEA relating to individualized education programs (IEPs) for transfer students, and issues relating to waiver of other applicable requirements in Part B of IDEA; and informing Mississippi of a specific extension of the timeline for submission of its State performance plan (SPP) granted pursuant to the Secretary's transition authority in section 303 of the Individuals with Disabilities Education Improvement Act of 2004.

• Letter dated October 25, 2005 to Louisiana State Department of Education Assistant Superintendent Dr. Robin Jarvis, regarding challenges faced by Louisiana in providing special education and related services to students with disabilities displaced by Hurricane Katrina, the flexibility that Louisiana has to establish State timelines for evaluating these students, and application of the requirements in Part B of IDEA relating to IEPs for transfer students; and informing Louisiana of specific extensions of the timelines for submission of documentation relating to its Federal Fiscal Year 2003 Annual Performance Report under Part B of IDEA and its SPP granted under the Secretary's transition authority in section 303 of the Individuals with Disabilities Education Improvement Act of 2004.

Topic Addressed: Confidentiality of Education Records

• Letter dated October 12, 2005 to Iowa Department of Education Program Consultant-Medicaid Dann Stevens from Family Policy Compliance Office Director LeRoy S. Rooker, regarding the disclosure of education records to the Medicaid agency for reimbursement purposes and clarifying that prior written consent is required under the Family Educational Rights and Privacy Act (FERPA) and Part B of IDEA in order for an educational agency or institution to disclose personally identifiable information about students with disabilities to a State Medicaid agency.

• Letter dated September 13, 2005 to Carroll Independent School District (Grapevine, Texas) Superintendent Gary S. Mathews, from Family Policy Compliance Office Director LeRoy S. Rooker, regarding provisions in Part B of IDEA that apply to the destruction of records and clarifying when test protocols are considered education records.

Part C—Infants and Toddlers With Disabilities

Section 636—Individualized Family Service Plan

Topic Addressed: Early Intervention Programs

• Letters dated November 4, 2005 to Florida State Department of Health Bureau Chief for Early Interventions Janice Kane, Louisiana Office of Public Health Children's Special Health Services Program Manager Linda Pippins, and Mississippi Department of Health First Steps Early Intervention Program Coordinator Danita Munday, regarding challenges faced by these States in meeting the early intervention needs of infants and toddlers with disabilities and their families in the wake of Hurricane Katrina, clarifying the parent consent, interim individualized family service plan, residency, natural environments, and personnel standards requirements under Part C of IDEA; and informing these States of a specific extension of the timeline for submission of the SPP granted pursuant to the Secretary's transition authority in section 303 of the Individuals with Disabilities Education Improvement Act of 2004.

Title III—Miscellaneous Provisions

Section 303—Secretary's Transition Authority

Topic Addressed: Smooth Transition to the Implementation of the 2004 Amendments To the Idea

• Letter dated October 25, 2005 to Texas Education Agency Idea Coordinator Kathy Clayton, regarding requests for waivers of certain IDEA requirements and extensions of required timelines for submission of the SPP in the wake of Hurricane Katrina.

Other Letters That Do Not Interpret the Idea But May Be of Interest to Readers

Topic Addressed: No Child Left Behind Act of 2001

• Letter dated October 21, 2005 to Chief State School Officers, regarding the highly qualified teacher (HQT) provisions of the No Child Left Behind Act of 2001 (NCLB) and the elements the Department will use in determining if a State is implementing the law and making a good faith effort to reach the HQT goal.

• Letter dated December 14, 2005 to Chief State School Officers, permitting States to develop assessments under NCLB based on modified achievement standards that are aligned with grade-level content standards for a second year in order to determine adequate yearly progress for students with disabilities under Title I of the Elementary and Secondary Education Act of 1965, as Amended.

Topic Addressed: Protection of Education Records

• Letter dated October 7, 2005 to Virginia Attorney B. Alan McGraw, Esq., from Family Policy Compliance Office Director LeRoy S. Rooker, clarifying that FERPA would not permit unauthorized individuals to access a student records management system.

Electronic Access to This Document

You may view this document, as well as all other Department of Education documents published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.027, Assistance to States for Education of Children with Disabilities)

Dated: March 16, 2006.
John H. Hager,
Assistant Secretary for Special Education and Rehabilitative Services.

[FR Doc. E6-4215 Filed 3-22-06; 8:45 am]

BILLING CODE 4000-01-P